FEDERAL COMMUNICATIONS COMMISSION

[Report No. 2837]

Petitions for Reconsideration of Action in Rulemaking Proceeding

October 12, 2007.

Petitions for Reconsideration have been filed in the Commission's Rulemaking proceeding listed in this Public Notice and published pursuant to 47 CFR 1.429(e). The full text of these documents are available for viewing and copying in Room CY-B402, 445 12th Street, SW., Washington, DC or may be purchased from the Commission's copy contractor, Best Copy and Printing, Inc. (BCPI) (1-800-378-3160). Oppositions to these petitions must be filed by November 6, 2007. See section 1.4(b)(1) of the Commission's rules (47 CFR 1.4(b)(1). Replies to oppositions must be filed within 10 days after the time for filing oppositions have expired.

Subject: In the Matter of Reexamination of Roaming Obligations of Commercial Mobile Radio Service Providers (WT Docket No. 05-265).

Number of Petitions Filed: 5.

Marlene H. Dortch,
Secretary.

[FR Doc. E7-20737 Filed 10-19-07; 8:45 am]

BILLING CODE 6712-01-P